DEPARTMENT OF TRANSPORTATION

Federal Aviation Administration

[Summary Notice No. PE- 2000-47]

Petitions for Exemption; Summary of Petitions Received; Dispositions of Petitions Issued

AGENCY: Federal Aviation Administration (FAA), DOT.

ACTION: Notice of petitions for exemption received and of dispositions of prior petitions.

SUMMARY: Pursuant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before October 8, 2000.

ADDRESSES: Send comments on any petition in triplicate to: Federal Aviation Administration, Office of Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) § 11.27 of Part 11 of the Federal Aviation Regulations (14 CFR Part 11).

Issued in Washington, D.C. on September 12, 2000.
Donald P. Byrne,
Assistant Chief Counsel for Regulations.

Dispositions of Petitions

Docket No.: 30040.

Petitioner: Mr. Kenneth D. Jannereth.

Section of the FAR Affected: 14 CFR 121.383(c).

Description of Relief Sought/Disposition: To permit Mr. Jannereth to act as a pilot in operations conducted under part 121 after reaching his 60th birthday. Denial, 09/01/00, Exemption No. 7338.

Docket No.: 30168.

Petitioner: Washington Flyers Club (WFC).

Section of the FAR Affected: 14 CFR 135.251, 135.255, 135.353, and Appendix I and J to part 121.

Description of Relief Sought/Disposition: To permit WFC to conduct local sightseeing flights at Washington County Pennsylvania Airport for a one-day charitable event in September 2000, for compensation or hire, without complying with certain anti-drug and alcohol misuse prevention requirements of part 135. Grant, 09/06/00, Exemption No. 7334.

Docket No.: 30075.

Petitioner: Mr. Joe A. Stamm.

Section of the FAR Affected: 14 CFR 135.251, 135.255, 135.353, and Appendixes I and J to part 121.

Description of Relief Sought/Disposition: To permit Mr. Stamm to conduct a local sightseeing flight at Cuyahoga County Airport, Richmond Heights, Ohio, to benefit the Orange Public Schools Foundation, on one day between September 29, 2000, and September 28, 2001, to be determined by Mr. Stamm and the passenger(s), for compensation or hire, without complying with certain anti-drug and alcohol misuse prevention requirements of part 135. Grant, 09/06/00, Exemption No. 7333.

Docket No.: 31136.

Petitioner: Columbiana County Pilots Association.

Section of the FAR Affected: 14 CFR 135.251, 135.255, 135.353, and Appendixes I and J to part 121.

Description of Relief Sought/Disposition: To permit CCPA to conduct local sightseeing flights at Columbiana County Airport for its one-day Wings-N-Wheels event in September 2000, for compensation or hire, without complying with certain anti-drug and alcohol misuse prevention requirements of part 135. Grant, 09/06/00, Exemption No. 7332.

Docket No.: 30133.

Petitioner: Fullerton Chapter of the Ninety-Nines, Inc.

Section of the FAR Affected: 14 CFR 135.251, 135,255, 135.353, and Appendix I and J to part 121.

Description of Relief Sought/Disposition: To permit Fullerton Ninety-Nines to conduct local sightseeing flights at Fullerton Municipal Airport, California, for a one-day charitable event in September 2000, for compensation or hire, without complying with certain anti-drug and alcohol misuse prevention requirements of part 135. Grant, 09/06/00, Exemption No. 7340.

Docket No.: 30153.

Petitioner: Mr. Rick Mantei.

Section of the FAR Affected: 14 CFR 135.251, 135.255, 135.353, and Appendixes I and J to part 121.

Description of Relief Sought/Disposition: To permit Mr. Mantei to conduct local sightseeing flights in the vicinity of Corder, South Carolina, for a one-day charitable event benefiting the local chapter of the Experimental Aircraft Association in September 2000, for compensation or hire, without complying with certain anti-drug and alcohol misuse prevention requirements of part 135. Grant, 09/08/00, Exemption No. 7342.

Docket No.: 28718.

Petitioner: The Goodyear Tire & Rubber Company.

Section of the FAR Affected: 14 CFR 21.325(b)(3).

Description of Relief Sought/Disposition: To permit the issuance of U.S. export airworthiness approvals for aircraft tires manufactured and located at Goodyear's Bangkok, Thailand, facility. Grant, 09/07/00, Exemption No. 6682D.

Docket No.: 29509.

Petitioner: Michelin Aircraft Tire Corporation.

Section of the FAR Affected: 14 CFR 21.325(b)(3).

Description of Relief Sought/Disposition: To permit the issuance of U.S. export airworthiness approvals for aircraft tires manufactured and located at Michelin's Nong Khae, Thailand facility. Grant, 09/07/00, Exemption No. 7099B.

[FR Doc. 00-23816 Filed 9-15-00; 8:45 am]

BILLING CODE 4910-13-M